DEPARTMENT OF ENERGY

Environmental Management Site-Specific Advisory Board, Hanford

AGENCY: Department of Energy.

ACTION: Notice of open meeting.

SUMMARY: This notice announces a meeting of the Environmental Management Site-Specific Advisory Board (EM SSAB), Hanford. The Federal Advisory Committee Act (Pub. L. 92-463, 86 Stat. 770) requires that public notice of these meeting be announced in the Federal Register.

DATES: Thursday, June 5, 2003, 9 a.m.-5 p.m.; Friday, June 6, 2003, 8:30 a.m.-4 p.m.

ADDRESSES: Red Lion Hanford House, 802 George Washington Way, Richland, WA, Phone: (509) 946-7611, Fax: (509) 943-8564.

FOR FURTHER INFORMATION CONTACT: Yvonne Sherman, Public Involvement Program Manager, Department of Energy Richland Operations Office, 825 Jadwin, MSIN A7-75, Richland, WA, 99352; Phone: (509) 376-6216; Fax: (509) 376-1563.

SUPPLEMENTARY INFORMATION: Purpose of the Board: The purpose of the Board is to make recommendations to DOE and its regulators in the areas of environmental restoration, waste management, and related activities.

Tentative Agenda

Thursday, June 5, 2003

Revised Draft Hanford Site Solid (Radioactive and Hazardous) Waste Program Environmental Impact Statement—Discussion and Draft Advice

Integrated Safety Management System and Voluntary Protection Program Discussion Panel

Office of River Protection Baseline (draft advice—tentative)

DOE Budget Process Update (draft advice—tentative)

Office of River Protection: Disposition of Transuranic Waste in the Tanks (draft advice—tentative)

Friday, June 6, 2003

Informational Session on Hanford Project Management Plan Strategic Initiative #3:

—Accelerate Stabilization and De-Inventory of Nuclear Materials: Spent Nuclear Fuel, Special Nuclear Material (Plutonium) and Cesium and Strontium Capsules

Hanford Natural Resource Trustee Council Overview

Adoption of Draft Advice:

—Revised Draft Hanford Solid (Radioactive and Hazardous) Waste Program Environmental Impact Statement

—Office of River Protection Baseline (tentative)

—DOE Budget Process Update (tentative)

—Office of River Protection: Disposition of Transuranic Waste in the Tanks (tentative)

Committee Updates

Identification of September Hanford Advisory Board meeting agenda topics

Public Participation: The meeting is open to the public. Written statements may be filed with the Board either before or after the meeting. Individuals who wish to make oral statements pertaining to agenda items should contact Yvonne Sherman's office at the address or telephone number listed above. Requests must be received five days prior to the meeting and reasonable provision will be made to include the presentation in the agenda. The Deputy Designated Federal Officer is empowered to conduct the meeting in a fashion that will facilitate the orderly conduct of business. Each individual wishing to make public comment will be provided equal time to present their comments.

Minutes: The minutes of this meeting will be available for public review and copying at the Freedom of Information Public Reading Room, 1E-190, Forrestal Building, 1000 Independence Avenue, SW., Washington, DC 20585 between 9 a.m. and 4 p.m., Monday-Friday, except Federal holidays. Minutes will also be available by writing to Yvonne Sherman, Department of Energy Richland Operation Office, 825 Jadwin, MSIN A7-75, Richland, WA 99352, or by calling her at (509) 376-1563.

Issued at Washington, DC on May 1, 2003.
Rachel M. Samuel,
Deputy Advisory Committee Management Officer.

[FR Doc. 03-11312 Filed 5-6-03; 8:45 am]

BILLING CODE 6450-01-P